NATIONAL CREDIT UNION ADMINISTRATION

Sunshine Act; Notice of Agency Meeting

Time and Date: 10 a.m., Thursday, October 16, 2008.

Place: Board Room, 7th Floor, Room 7047, 1775 Duke Street, Alexandria, VA 22314-3428.

Status: Open.

Matters to be Considered: 1. Quarterly Insurance Fund Report.

2. Proposed Rule—Section 740.4 of NCUA's Rules and Regulations, Requirements for the Official Sign.

3. Final Rule—Part 721 of NCUA Rules and Regulations, Incidental Powers.

4. Final Rule—Part 701 of NCUA Rules and Regulations, Interpretive Ruling and Policy Statement (IRPS) 08-2, Criteria to approve service to underserved areas.

Recess: 11 a.m.

Time and Date: 11:15 a.m., Thursday, October 16, 2008.

Place: Board Room, 7th Floor, Room 7047, 1775 Duke Street, Alexandria, VA 22314-3428.

Status: Closed.

Matters to be Considered: 1. One (1) Administrative Action under Sections 206 and 208 of the Federal Credit Union Act. Closed pursuant to Exemptions (8), and (9)(A)(ii) and (9)(B).

2. Consideration of supervisory activities. Closed pursuant to Exemptions (9)(A)(ii) and (9)(B).

FOR FURTHER INFORMATION CONTACT: Mary Rupp, Secretary of the Board, Telephone: 703-518-6304.

Mary Rupp,
Board Secretary.

[FR Doc. E8-24560 Filed 10-10-08; 11:15 am]

BILLING CODE 7535-01-P